DEPARTMENT OF ENERGY

Federal Energy Regulatory Commission

[Project No. 1894-211]

South Carolina Electric & Gas Company; Notice Soliciting Scoping Comments

Take notice that the following hydroelectric application has been filed with the Commission and is available for public inspection.

a. Type of Application: New Major License.

b. Project No.: P-1894-211.

c. Date filed: June 28, 2018.

d. Applicant: South Carolina Electric and Gas Company.

e. Name of Project: Parr Hydroelectric Project.

f. Location: The existing project is located on the Broad River, in Newberry and Fairfield Counties, South Carolina. The project occupies 162.61 acres of federal lands administered by the U.S. Forest Service.

g. Filed Pursuant to: Federal Power Act 16 U.S.C. 791 (a)-825(r).

h. Applicant Contact: Mr. William Argentieri, P.E., Manager of Civil Engineering, South Carolina Electric & Gas Company, 220 Operation Way, Mail Code A221, Cayce, SC 29033-3701; (803) 217-9162; or email at bargentieri@scana.com.

i. FERC Contact: Monte TerHaar at (202) 502-6035; or monte.terhaar@ferc.gov.

j. Deadline for filing scoping comments: April 5, 2019.

The Commission strongly encourages electronic filing. Please file scoping comments using the Commission's eFiling system at http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov, (866) 208-3676 (toll free), or (202) 502-8659 (TTY). In lieu of electronic filing, please send a paper copy to: Secretary, Federal Energy Regulatory Commission, 888 First Street NE, Washington, DC 20426. The first page of any filing should include docket number P-1894-211.

The Commission's Rules of Practice require all intervenors filing documents with the Commission to serve a copy of that document on each person on the official service list for the project. Further, if an intervenor files comments or documents with the Commission relating to the merits of an issue that may affect the responsibilities of a particular resource agency, they must also serve a copy of the document on that resource agency.

k. This application is not ready for environmental analysis at this time.

l. Project Description: The project consists of two developments; the 14.88 Megawatt (MW) Parr Shoals Development and the 511.2-MW Fairfield Pumped Storage Development.

The Parr Shoals Development consists of: (1) The 15-mile-long, 4,250-acre Parr Reservoir, at full pond elevation 265.3 feet North American Vertical Datum of 1988 (NAVD 88); (2) the 2,690-foot-long Parr Shoals Dam, which includes a non-overflow section, spillway section with 10 gates, and powerhouse intake section; (3) a powerhouse integral with the dam, with six generating units; and (4) transmission facilities that consist of three 950-foot-long, 13.8-kilovolt lines extending from the hydro station to the non-project Parr sub-station.

The Fairfield Pumped Storage Development consists of: (1) Parr Reservoir which serves as the lower pool; (2) the 6,800-acre Monticello Reservoir (upper reservoir), at normal maximum elevation 424.3 feet NAVD 88, formed by four earthen dams (A, B, C, and D); (3) a 265-foot-long gated intake channel, located between dams B and C; (4) four 800-foot-long surface penstocks bifurcating into eight penstocks; (5) an underground generating station, which houses eight pumped-turbine units; and (6) transmission facilities that consist of three 7,000-foot-long lines extending from the Fairfield switch station to the non-project V.C. Summer switchyard.

The Fairfield Pumped Storage Development is operated to generate during peak demand periods. Generation usually occurs during the day, with the upper reservoir replenished by pumping water at night (non-peak period). The Parr Shoals Development serves as the lower reservoir for the pumped storage project.

m. A copy of the application is available for review at the Commission in the Public Reference Room or may be viewed on the Commission's website at http://www.ferc.gov using the “eLibrary” link. Enter the docket number excluding the last three digits in the docket number field to address the document. For assistance, contact FERC Online Support. A copy is available for inspection and reproduction at the address in Item H above.

n. You may also register online at http://www.ferc.gov/docs-filing/esubscription.asp to be notified via email of new filings and issuances related to this or other pending projects. For assistance, contact FERC Online Support.

o. Scoping Process.

The Commission staff intends to prepare a single Environmental Assessment (EA) for the project in accordance with the National Environmental Policy Act. The EA will consider both site-specific and cumulative environmental impacts and reasonable alternatives to the proposed action.

At this time, we do not anticipate holding on-site public or agency scoping meetings. Instead, we are soliciting your comments and suggestions on the preliminary list of issues and alternatives to be addressed in the EA, as described in scoping document 1 (SD1), issued March 6, 2019.

Copies of the SD1 outlining the subject areas to be addressed in the EA were distributed to the parties on the Commission's mailing list and the applicant's distribution list. Copies of SD1 may be viewed on the web at http://www.ferc.gov using the “eLibrary” link. Enter the docket number excluding the last three digits in the docket number field to access the document. For assistance, call 1-866-208-3676 or for TTY, (202) 502-8659.

Dated: March 6, 2019.
Kimberly D. Bose,
Secretary.

[FR Doc. 2019-04679 Filed 3-13-19; 8:45 am]

BILLING CODE 6717-01-P